DEPARTMENT OF HOUSING AND URBAN DEVELOPMENT

[Docket No. FR-7092-N-31]

Privacy Act of 1974; System of Records

AGENCY: Office of Policy Development and Research, HUD.

ACTION: Notice of a new system of records.

SUMMARY: Pursuant to the provisions of the Privacy Act of 1974, as amended, the Department of Housing Urban and Development (HUD), Office of Policy Development and Research (PD&R) is issuing a public notice of its intent to create a new Privacy Act System of Records titled, “Policy and Research Information System.” The Policy and Research Information System (PARIS) contains information related to public housing agencies (PHAs), HUD-assisted families, HUD-assisted properties, and other HUD programs which are used for research, evaluation, monitoring, and budget formulation.

DATES: Comments will be accepted on or before August 2, 2024. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; Mr. Ladonne White, Chief Privacy Officer; Office of the Executive Secretariat, 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White, The Privacy Office; 451 Seventh Street SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD's Office of Policy Development and Research (PD&R) maintains the Policy and Research Information System (PARIS) system of records. PARIS serves as a repository of information related to public housing agencies (PHAs), HUD-assisted families, HUD-assisted properties, and other HUD programs for the purposes of research, evaluation, monitoring, and budget formulation. PARIS gives PD&R the ability to extract data from multiple data systems, both internal and external to HUD, and to transform the data into a format that can be easily analyzed and reported on. The records in PARIS are not collected directly from individuals. Records are sent to PARIS from other data systems. Data in PARIS are shared through data exchange within HUD with the following offices: PD&R's Office of Research Evaluation and Monitoring (OREM), Office of Economic Affairs (OEA), the Office of Housing (Single Family and Multifamily), the Office of Public and Indian Housing (PIH), and the Office of Inspector General (OIG). Data in PARIS are exchanged external to HUD with the following agencies: the U.S. Census Bureau (Census), the Centers for Medicare and Medicaid Services (CMS), the National Center for Health Statistics (NCHS), the National Institutes of Health (NIH), the Bureau of Labor Statistics (BLS), the Federal Emergency Management Agency (FEMA), the Department of Justice (DOJ), and the Department of Treasury (DOT). The compilation and processing of data from various HUD program offices as well as external sources into the PARIS system provides researchers and policymakers with easy access to data coming from disparate systems. In addition, the data exchange and data sharing through PARIS provides a secure environment for HUD analysts to make data useful for improving HUD programs. The records that come into PARIS from various sources, internal and external to HUD, are kept separate. The databases are constructed in such manner that sources of the data are identified.

SYSTEM NAME AND NUMBER:

Policy and Research Information System (PARIS), HUD/PD&R-07.

SECURITY CLASSIFICATION:

Unclassified.

SYSTEM LOCATION:

Records are maintained at the U.S. Department of Housing and Urban Development Headquarters, 451 Seventh Street SW, Washington, DC 20410-0001. Servers are in Stennis Data Center, 9300 Building Complex Stennis Space Center, MS 39529-0001.

SYSTEM MANAGER(S):

Lydia Taghavi, Deputy Assistant Secretary, Office of the Chief Data Officer, Office of Policy Development and Research, U.S. Department of Housing and Urban Development, 451 Seventh Street SW, Room 8210, Washington, DC 20410-0001; Phone: (202) 402-5741.

AUTHORITY FOR MAINTENANCE OF THE SYSTEM:

Sections 501 and 502(g) of the Housing and Urban Development Act of 1970 (Pub. L. 91-609); 84 Stat. 1784; 12 U.S.C. 1701z-1 and 1701z-2(g).

PURPOSE(S) OF THE SYSTEM:

HUD PD&R maintains the Policy and Research Information System (PARIS) system of records to serve as a repository of information related to public housing agencies (PHAs), HUD-assisted families, HUD-assisted properties, and other HUD programs for research, evaluation, monitoring, and budget formulation. PARIS gives PD&R the ability to extract data from multiple data systems, both internal and external to HUD, and transform the data into a format that can be easily analyzed and reported on. The reporting functions allow HUD to respond to Congressional requests for data on assisted housing programs. The data collected from the multiple systems and surveys is used and stored solely for statistical purposes and will not be used to identify individuals or make decisions that affect the rights, benefits, or privileges of specific individuals unless it meets one routine uses identified in the next section. The data in this system will include location data used to analyze the neighborhoods in which people participating in HUD programs live.

CATEGORIES OF INDIVIDUALS COVERED BY THE SYSTEM:

Members of the public, heads of households, spouses, children and other household members residing in a HUD-assisted property and/or receiving rental housing assistance through programs administered by HUD; children and other household members residing in Low-Income Housing Tax Credit (LIHTC) properties; individuals who are hired management agents by PHAs and Tribally Designated Housing Entities (TDHE); individuals who are designated as property owners and/or managing agents of privately-owned but HUD-assisted properties; individuals who are designated as agents of State Housing Finance agencies; individuals whose records are found in the National Center for Health Statistics (NCHS)-HUD data linkage which involves data from the National Health Interview Survey and the National Health and Nutrition Survey matched with HUD's data; individuals who have received or applied for housing-related disaster assistance from the Federal Emergency Management Agency (FEMA); families/individuals who are participants in:

• HUD-sponsored research and evaluation projects,

• HUD homeownership programs, and

• HUD Eviction Protection Grant Program.

CATEGORIES OF RECORDS IN THE SYSTEM:

Full Name, Social Security Number, Date of Birth, Age, Disability Status, Race/Ethnicity, Alien Registration Number, Citizenship(s), Home Address, Email Address(es), Phone Number(s), Place of Birth, Salary, Sex, Gender, Eligibility to HUD program, Protected Health Information, Household Member Relationship to Head of Household.

RECORD SOURCE CATEGORIES:

HUD record sources: Low-Income Housing Tax Credit (LIHTC) Tenant Data Collection, Inventory Management System-PIH Information Center (IMS-PIC), the Housing Information Portal (HIP), Tenant Rental Assistance Certification System (TRACS), Single Family Housing Enterprise Data Warehouse (SFHEDW), Rental Assistance Demonstration (RAD) program data, Disaster Recovery Grant Reporting Systems (DRGR) Eviction Protection Grant Program (EPGP) data, National Standards for the Physical Inspection of Real Estate (NSPIRE), and HUD Enforcement Management System (HEMS).

Non-HUD record sources: Federal Emergency Management Agency (FEMA), National Center for Health Statistics (NCHS), Department of Justice (DOJ), Department of Treasury (Treasury), Federal Housing Finance Agency (FHFA), United States Postal Service (USPS), and Consumer Financial Protection Bureau (CFPB).

ROUTINE USES OF RECORDS MAINTAINED IN THE SYSTEM, INCLUDING CATEGORIES OF USERS AND PURPOSES OF SUCH USES:

(1) To appropriate agencies, entities, and persons when (1) HUD suspects or has confirmed that there has been a breach of the system of records, (2) HUD has determined that as a result of the suspected or confirmed breach there is a risk of harm to individuals, [the agency] (including its information systems, programs, and operations), the Federal Government, or national security; and (3) the disclosure made to such agencies, entities, and persons is reasonably necessary to assist in connection with HUD'S efforts to respond to the suspected or confirmed breach or to prevent, minimize, or remedy such harm.

(2) To another Federal agency or Federal entity, when HUD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach

(3) To a congressional office from the record of an individual in response to an inquiry from that congressional office made at the request of the individual to whom the record pertains.

(4) To appropriate Federal, State, local, tribal, or governmental agencies or multilateral governmental organizations responsible for investigating or prosecuting the violations of, or for enforcing or implementing, a statute, rule, regulation, order, or license, where HUD determines that the information would assist in the enforcement of civil or criminal laws when such records, either alone or in conjunction with other information, indicate a violation or potential violation of law.

(5) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(6) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

To contractors, grantees, experts, consultants and their agents, students or others performing or working under a contract, service, grant, cooperative agreement, or other assignment with HUD, when necessary to accomplish an agency function related to a system of records. Since the records maintained in this system are also found in other HUD systems and used for other purposes, their routine use also applies.

(7) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

POLICIES AND PRACTICES FOR STORAGE OF RECORDS:

Electronic Records.

POLICIES AND PRACTICES FOR RETRIEVAL OF RECORDS:

Name, Social Security Number, and Date of Birth.

POLICIES AND PRACTICES FOR RENTENTION AND DISPOSAL OF RECORDS:

Records files are maintained in accordance with Records Disposition Schedule 67.9.b and 67.9.f. The records will be retained as necessary. As such, when projects are satisfactorily closed, and records are no longer needed for administrative purposes, the records will be destroyed when the destruction date is reached. Electronic records are destroyed according to authorization number DAA-GRS-2017-0003-0002.

ADMINISTRATIVE, TECHNICAL, AND PHYSICAL SAFEGUARDS:

Access to any server, security, storage, backup, and infrastructure equipment is monitored, and is restricted to only those with a need-to-have system access, including being secured by administrative password and User ID, PIV Card, and authentication methods. All system users are required to sign a confidentiality pledge to abide by corporate policies and by HUD policies. Access to PARIS databases is controlled and monitored by HUD System Administrators and abides by policies set by HUD's Chief Information Officer. Servers and other storage equipment are within HUD's firewall.

RECORD ACCESS PROCEDURES:

Individuals requesting records of themselves should address written inquiries to the Department of Housing Urban and Development, 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

N/A.

HISTORY:

N/A.

LaDonne L. White,
Chief Privacy Officer, Office of Administration.

[FR Doc. 2024-14641 Filed 7-2-24; 8:45 am]

BILLING CODE 4210-67-P